DEPARTMENT OF COMMERCE

National Oceanic and Atmospheric Administration

50 CFR Part 300

[Docket No. 010119023-1023-01; I.D. 121900A]

RIN 0648-AO80

Pacific Halibut Fisheries; Catch Sharing Plan

AGENCY: National Marine Fisheries Service (NMFS), National Oceanic and Atmospheric Administration (NOAA), Commerce.

ACTION: Proposed changes to catch sharing plan and sport fishing management; availability of draft environmental assessment and regulatory impact review.

SUMMARY: NMFS proposes, under authority of the Northern Pacific Halibut Act (Halibut Act), to approve and implement changes to the Area 2A Pacific Halibut Catch Sharing Plan (Plan) to adjust the management of the sport fisheries off Washington, and to adjust the management of the non-treaty commercial fisheries off Oregon and Washington. NMFS also proposes sport fishery regulations to implement the Plan in 2001. A draft environmental assessment and regulatory impact review (EA/RIR) on this action is also available for public comment.

DATES: Comments on the proposed changes to the Plan and the proposed sport fishery regulations must be received by March 9, 2001.

ADDRESSES: Send comments or requests for a copy of the Plan and/or the EA/RIR to Donna Darm, Acting Regional Administrator, Northwest Region, NMFS, 7600 Sand Point Way, Seattle, WA 98115. Electronic copies of the Plan, including proposed changes for 2001, and of the draft EA/RIR are also available at the NMFS Northwest Region website: http://www.nwr.noaa.gov, under “Halibut Management.” Comments will not be accepted if submitted via e-a-mail or the Internet.

FOR FURTHER INFORMATION CONTACT: Yvonne deReynier, 206-526-6140.

SUPPLEMENTARY INFORMATION: The Halibut Act, at 16 U.S.C. 773c, gives the Secretary of Commerce (Secretary) general responsibility for carrying out the Halibut Convention between the United States and Canada. It requires the Secretary to adopt such regulations as may be necessary to carry out the purposes and objectives of the Convention and the Halibut Act. Section 773c(c) of the Halibut Act authorizes the Regional Fishery Management Councils to develop regulations that are not in conflict with regulations adopted by the International Pacific Halibut Commission (IPHC) to govern the Pacific halibut catch that occurs in their regions. Each year since 1988, the Pacific Fishery Management Council (Council) has developed a catch sharing plan in accordance with the Halibut Act to allocate the total allowable catch (TAC) of Pacific halibut between treaty Indian and non-treaty harvesters and among non-treaty commercial and sport fisheries in IPHC statistical Area 2A (off Washington, Oregon, and California).

In 1995, upon the recommendation of the Council, NMFS implemented the Plan (60 FR 14651, March 20, 1995). In each of the intervening years between 1995 and the present, minor revisions to the Plan have been made to adjust for the changing needs of the fisheries. The Plan allocates 35 percent of the Area 2A TAC to Washington treaty Indian tribes in Subarea 2A-1 and 65 percent to non-Indian fisheries in Area 2A. The allocation to non-Indian fisheries is divided into three shares, with the Washington sport fishery (north of the Columbia River) receiving 36.6 percent, the Oregon/California sport fishery receiving 31.7 percent, and the commercial fishery receiving 31.7 percent. The commercial fishery is further divided into a directed commercial fishery that is allocated 85 percent of the commercial allocation and an incidental catch in the salmon troll fishery that is allocated 15 percent of the commercial allocation. The directed commercial fishery in Area 2A is confined to southern Washington (south of 46°53'18″ N. lat.), Oregon, and California. The Plan also divides the sport fisheries into seven geographic subareas, each with separate allocations, seasons, and bag limits.

Council Recommended Changes to the Plan

At its September 2000 meeting, the Council adopted, for public comment, the following proposed changes to the plan: (1) separating the directed commercial fishery sub-quota from the incidental salmon fishery allowance and permitting the salmon troll fishery to retain incidentally caught halibut from May 1 until its sub-quota is estimated to have been achieved; (2) allowing the setting of sport fishery season start dates in the Washington North Coast and South Coast sub-areas following the IPHC annual meeting, rather than before; (3) removing the 1,000 lb (0.45 mt) nearshore set-aside in the Washington South Coast sub-area; and (4) eliminating the Washington South Coast closed “hot spot.”

At its November 2000 public meeting, the Council considered the results of state-sponsored workshops on the proposed changes to the Plan and public comments, and made final recommendations for three modifications to the Plan as follows:

(1) Set a halibut sub-quota for the salmon troll fishery that is distinct from the directed commercial fishery sub-quota. The salmon troll fishery would be permitted to retain halibut taken incidentally in that fishery, beginning May 1 until the sub-quota is estimated to have been achieved. The directed commercial fishery would no longer have access to the salmon troll fishery sub-quota in July.

(2) Revise the season guidance for the Washington South Coast sport fishery to remove the 1,000 lb (0.45 mt) nearshore halibut set-aside. Nearshore fishing for halibut would be permitted during the all-depth season. If the all-depth season closes with halibut remaining in its quota, additional nearshore fishing would also be permitted after the all-depth season.

(3) Eliminate the closed “hot spot” for the Washington South Coast sport fishery.

The Council also recommended a minor change to update the plan to reflect the elimination of the Halibut Managers Group, and to clarify which Salmon Advisory Subpanel member should be consulted regarding inseason halibut actions.

Proposed Changes to the Catch Sharing Plan

NMFS is proposing to approve and to make the following changes to the Plan:

In section (e) of the Plan, Non-Indian Commercial Fisheries, add a new sentence to the end of sub-paragraph (e)(1) to read as follows:

The primary management objective for this fishery is to harvest the troll quota as incidental catch during the May/June salmon troll fishery. The secondary management objective is to harvest the remaining troll quota as incidental catch during the July through September salmon troll fishery.

In section (e), Non-Indian Commercial Fisheries, revise the last sentence of sub-paragraph (e)(1)(ii)(A) to read as follows:

In determining whether to make such inseason adjustments, NMFS will consult with the applicable state representative(s), a representative of the Council’s Salmon Advisory Sub-Panel, and Council staff.

In section (e), Non-Indian Commercial Fisheries, revise sub-paragraph (e)(1)(iii), redesignate paragraphs (e)(1)(iv) and (e)(1)(v) as (e)(1)(iii) and (e)(1)(iv), respectively, and revise redesignated paragraph (e)(1)(iii) to read as follows:

If the overall quota for the non-Indian, incidental commercial troll fishery has not been harvested by salmon trollers during the May/June fishery, additional landings of halibut caught incidentally during salmon troll fisheries will be allowed in July and will continue until the amount of halibut that was initially available as a quota for the troll fishery is taken or the overall non-Indian commercial quota is estimated to have been achieved by the IPHC. Landing restrictions implemented for the May/June salmon troll fishery will apply for as long as this fishery is open. Notice of the July opening of this fishery will be announced on the NMFS hotline (206) 526-6667 or (800) 662-9825. No halibut retention in the salmon troll fishery will be allowed in July unless the July opening has been announced on the NMFS hotline.

In section (e), Non-Indian Commercial Fisheries, remove the fourth sentence of paragraph (e)(2).

In section (f), Sport Fisheries, revise the seventh and eighth sentences of paragraph (1)(iii) to read as follows:

The fishery will continue until September 30, or until the quota is achieved, whichever occurs first. Subsequent to this closure, if any remaining quota is insufficient for an offshore fishery, but is sufficient for a nearshore fishery, the area from the Queets River south to 47°00′00″ N. lat. and east of 124°40′00″ W. long. will reopen for 7 days per week until either the remaining subarea quota is estimated to have been taken and the season is closed by the IPHC, or until September 30, whichever occurs first.

In section (f), Sport Fisheries, delete the last two sentences of paragraph (1)(iii).

In section (f), Sport Fisheries, revise paragraph (5)(iv)(A) to read as follows:

Inseason actions will be effective on the date specified in the Federal Register or at the time that the action is filed for public inspection at the Office of the Federal Register, whichever is later.

Proposed 2001 Sport Fishery Management Measures

NMFS is proposing sport fishery management measures that are necessary to implement the Plan in 2001. The 2001 TAC for Area 2A is 1,140,000 lb (517 mt), as set by the IPHC at its annual meeting of January 22-25, 2001. The proposed 2001 sport fishery regulations are based on this 2001 Area 2A TAC as follows:

Washington Inside Waters (Subarea Puget Sound and Straits)

This subarea is allocated 57,393 lb (26 mt) of an Area 2A TAC of 1,140,000 lb (517 mt) in accordance with the Plan. The season should be longer than the 46-day season in 2001 because of the increase in the overall TAC and resultant subarea allocation. In accordance with the procedure developed with IPHC to project the catch in this subarea based on past catch per “fishing day equivalent” (FED), where a weekday is equal to 1 FED and a weekend/holiday is equal to 2.5 FEDs, approximately 89 FEDs are expected with a 57,393 lb (26 mt) quota. This calculation is based on an average catch of 643 lb (0.3 mt) per FED over the past 3 years. The number of fishing days is based on setting a season that opens in May and continues at least through July 4 for a 5-day per week fishery (Thursday through Monday). A final determination of the season dates will be made based on the allowable harvest level, projected 2001 catch rates, and on recommendations developed in a public workshop sponsored by Washington Department of Fish and Wildlife in February. The daily bag limit is one halibut of any size per day per person.

Washington North Coast Subarea (North of the Queets River)

This subarea is allocated 108,030 lb (49 mt) at an Area 2A TAC of 1,140,000 lb (517 mt) in accordance with the Plan. The 2000 fishery began on May 2, lasted through June 16, and re-opened July 1 to 4. This fishery is held 5 days per week (Tuesday through Saturday). According to the Plan, the structuring objective for this subarea is to maximize the season length for viable fishing opportunity and, if possible, stagger the seasons to spread out this opportunity to anglers who use these remote grounds. For the 2001 fishing season, the fishery in this subarea is set to meet the structuring objectives described in the Plan. While this season is scheduled to begin in May, a final determination of the season dates will be made based on the allowable harvest level, projected 2001 catch rates, and on recommendations developed in a public workshop sponsored by Washington Department of Fish and Wildlife in February. The daily bag limit is one halibut of any size per day per person. A portion of this subarea located about 19 nm (35 km) southwest of Cape Flattery is closed to sport fishing for halibut. The size of this closed area is described in the Plan, but may be modified preseason by NMFS to maximize the season length.

Washington South Coast Subarea

This subarea is allocated 42,739 lb (19.4 mt) of an Area 2A TAC of 1,140,000 lb (517 mt) in accordance with the Plan. The fishery will open in May and continue 5 days per week (Sunday through Thursday) in all areas, except where prohibited, and 7 days per week only in the area from the Queets River south to 47°00′00″ N. lat. and east of 124°40′00″ W. long. When there is not enough quota available for a single day of offshore fishing, fishing will be allowed 7 days per week in the area from the Queets River south to 47°00′00″ N. lat. and east of 124°40′00″ W. long., until the quota is reached or until September 30, whichever occurs first. The daily bag limit is one halibut of any size per day per person.

Columbia River Subarea

This subarea is allocated 10,487 lb (4.8 mt) of an Area 2A TAC of 1,140,000 lb (517 mt) in accordance with the Plan. The fishery will open on May 1 and continue 7 days per week until the quota is reached or September 30, whichever occurs first. The daily bag limit is the first halibut taken, per person, of 32 inches (81.3 cm) or greater in length.

Oregon North Central Coast Subarea

This subarea is allocated 199,803 lb (90.6 mt) of an Area 2A TAC of 1,140,000 lb (517 mt) in accordance with the Plan. The May all-depth season is allocated 135,866 lb (61.6 mt). Based on an observed catch per day trend in this fishery, an estimated 24,000 lb (10.9 mt) will be caught per day in 2001, resulting in a 5-day fixed season. In accordance with the Plan, the season dates will be May 9, 10, 11, 16, and 17. If the quota is not taken, an appropriate number of fishing days will be scheduled for late May or early June. The restricted depth fishery inside 30 fathoms is combined for the north central and south central coast sub-areas, and is allocated 17,150 lb (7.8 mt) and will be open starting May 1 through September 30 or until the TAC is attained, whichever occurs first. The August coastwide all-depth fishery (Cape Falcon to Humbug Mountain) is allocated 49,951 lb (22.7 mt), which may be sufficient for a 1-day or 2-day opening in August, based on the expected catch per day. If sufficient quota remains after this season for additional days of fishing, the dates for an all-depth fishery will be in mid-August. A final determination of the season dates will be made based on the allowable harvest level, projected catch rates, and recommendations developed in a public workshop sponsored by the Oregon Department of Fish & Wildlife in February. The daily bag limit is the first halibut taken, per person, of 32 inches (81.3 cm) or greater in length.

Oregon South Central Coast Subarea

This subarea is allocated 15,820 lb (7.2 mt) at an Area 2A TAC of 1,140,000 lb (517 mt) in accordance with the Plan. The May all-depth season is allocated 12,656 lb (5.7 mt) and, based on observed catch per day trend in this fishery, an estimated 3,000 lb (1.4 mt) would be caught per day in 2001, resulting in a 4-day fixed season. In accordance with the Plan, the season dates are May 9, 10, 16, and 17. If the quota is not taken, an appropriate number of fishing days will be scheduled for late May or early June. The restricted depth fishery inside 30 fathoms is combined for the north central and south central coast sub-areas, and would be allocated 17,150 lb (7.8 mt) and will be open starting May 1 through September 30 or until the TAC is attained, whichever occurs first. The August coastwide all-depth fishery (Cape Falcon to Humbug Mountain) is allocated 49,951 lb (22.7 mt), which may be sufficient for a 1-day or 2-day opening in August, based on the expected catch per day. If sufficient quota remains for additional fishing days after this season, the dates for an all-depth fishery will be in mid-August. A final determination of the season dates will be made based on the allowable harvest level, projected catch rates, and recommendations developed in an ODFW-sponsored public workshop in February. The daily bag limit is the first halibut taken, per person, of 32 inches (81.3 cm) or greater in length.

Humbug Mountain, OR, through California Subarea

This subarea is allocated 6,809 lb (3.1 mt) of an Area 2A TAC 1,140,000 lb (517 mt) in accordance with the Plan. The 2001 sport season for this subarea is the same as last year, with a May 1 opening and continuing 7 days per week until September 30. The daily bag limit is the first halibut taken, per person, of 32 inches (81.3 cm) or greater in length.

NMFS requests public comments on the Council's recommended modifications to the Plan and the proposed sport fishing regulations. The Area 2A TAC was set by the IPHC at its annual meeting on January 22 to 25, 2001, in Vancouver, British Columbia. NMFS requests comments on the proposed changes to the Plan and on the proposed changes to sport fishing regulations by February 16, 2001, after the IPHC annual meeting, so that the public will have the opportunity to consider the final Area 2A TAC before submitting comments on the proposed sport fishing regulations. The States of Washington and Oregon will conduct public workshops shortly after the IPHC meeting to obtain input on the sport season dates. NMFS will issue final rules for the Area 2A Pacific halibut sport fishery concurrent with the IPHC regulations for the 2001 Pacific halibut fisheries.

Classification

NMFS has prepared a draft EA/RIR on the proposed changes to the Plan. Copies of the “Draft Environmental Assessment and Regulatory Impact Review of Changes to the Catch Sharing Plan for Pacific Halibut in Area 2A” are available from NMFS (see ADDRESSES). Comments on the EA/RIR are requested by March 21, 2001.

The Chief Counsel for Regulation of the Department of Commerce certified to the Chief Counsel for Advocacy of the Small Business Administration that the proposed changes to the Plan would not have a significant economic impact on a substantial number of small entities as follows:

Setting a fishery-specific halibut quota for the salmon troll fishery will not appreciably alter the annual halibut harvest of that fishery or the directed commercial fishery. The basic allocation scheme of 85% of the non-treaty commercial quota for the directed commercial fishery and 15% of the non-treaty commercial quota for the salmon troll fishery would not change under this action. Rather. the directed commercial fishery would no longer have access to the halibut that remains in the salmon troll fishery sub-quota after the June salmon fisheries; that halibut would remain available to the salmon fishery. Although it is theoretically possible that commercial halibut fishers could be adversely affected because they would be unable to harvest any halibut remaining in the salmon troll sub-quota, past experience indicates that salmon troll participants have harvested most of their annual quotas. Accordingly, because fishery participants will basically have the same fishing opportunities in 2001 as 2000. In 2000, 268 licenses were issued to fishers participating in the 3-day directed fishery, and 235 licenses were issued to salmon fishers wishing to land halibut incidentally to their troll fisheries. The total combined quota for these two fisheries was less than 160,000 lb (72 mt) in 2000, an insignificant amount relative to the annual West Coast commercial salmon and groundfish landings.

Similar to revisions on separating the non-treaty commercial allocations, proposed changes for the Washington South Coast sub-area would not re-allocate halibut or appreciably alter halibut fishing opportunities for charter businesses and anglers operating in that area. Nearshore halibut opportunities have traditionally varied from year to year, based on harvest rates in the all-depth fishery. Under the proposed changes to the Plan, the all-depth fishery would close when the remaining quota is not adequate to cover a day of all-depth fishing. Because a single day of all-depth fishing could require up to 2,000 lb, nearshore fishing opportunities are not expected to be reduced from the current system of setting aside 1,000 lb for nearshore harvest.

The “hot spot” closed area in the Washington South Coast subarea was opened inseason in 1999 and 2000. Opening the hot spot before the start of the season in 2001 will not alter quota availability for fishers in that area. This proposed change is expected to improve business planning convenience for South Coast fishers, who will be able to fish throughout the South Coast subarea from the start of the season, rather than waiting for guidance on whether the hot spot will be closed or opened.

These proposed changes to the Plan are insignificant and are expected to result in either no impact at all, or a modest increase in fishery and regulatory convenience. Consequently, these changes to the Plan are not expected to meet any of the RFA tests of having a “significant” economic effect on a “substantial number” of small entities. The proposed sport management measures for 2001 merely implement the Plan at the appropriate level of TAC; their impacts are within the scope of the impacts analyzed for the Plan.

Accordingly, a regulatory flexibility analysis was not prepared.

This action has been determined to be not significant for purposes of E.O. 12866.

Dated: February 28, 2001.
William T. Hogarth,
Acting Assistant Administrator for Fisheries, National Marine Fisheries Service.

[FR Doc. 01-5314 Filed 3-5-01; 8:45 am]

BILLING CODE 3510-22-S